DEPARTMENT OF COMMERCE

Foreign-Trade Zones Board

[B-19-2026]

Foreign-Trade Zone (FTZ) 216, Notification of Proposed Production Activity; Essex Laboratories LLC; (Mint Oil Blends); Chehalis, Washington

The Port of Olympia, grantee of FTZ 216, submitted a notification of proposed production activity to the FTZ Board (the Board) on behalf of Essex Laboratories LLC (Essex Laboratories) for Essex Laboratories' facilities in Chehalis, Washington within FTZ 216. The notification conforming to the requirements of the Board's regulations (15 CFR 400.22) was received on February 18, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: Mentha Piperita Oil Blend; Mentha Spearmint Oil Blend; Spearmint Terpenes Oil Blend; Mentha Citrata Oil Blend; Oils containing Blends of Mentha Piperita, Mentha Arvensis, and Natural Mint Isolates; Oils containing Blends of Mentha Spearmint, Carvone Laevo, and Natural Mint Isolates; and Oils containing Blends of Mentha Piperita, Mentha Arvensis, and Natural Mint Isolates (duty rate ranges from duty-free to 4.2%).

The proposed foreign-status materials/components include: Beta Caryophyllene; L-Limonene; Pinene Alpha; 3-Octanol; Menthol; Menthol (Synthetic); Neomenthol; Carvone Laevo; Menthone; Menthyl Acetate; Menthofuran Isolate from Peppermint Oil; Mentha Piperita Oil; Mentha Spearmint Oil; Peppermint Terpenes; Spearmint Terpenes; Mentha Arvensis; Dementholised Cornmint Oil; and Mentha Citrata Oil (duty rate ranges from duty-free to 5.5%).

The request indicates that certain materials/components are subject to duties under section 1702(a)(1)(B) of the International Emergency Economic Powers Act (section 1702), or section 301 of the Trade Act of 1974 (section 301), depending on the country of origin. The applicable section 1702 and section 301 decisions require subject merchandise to be admitted to FTZs in privileged foreign status (19 CFR 146.41).

Public comment is invited from interested parties. Submissions shall be addressed to the Board's Executive Secretary and sent to: ftz@trade.gov. The closing period for their receipt is April 6, 2026.

A copy of the notification will be available for public inspection in the “Online FTZ Information System” section of the Board's website.

For further information, contact John Frye at John.Frye@trade.gov.

Dated: February 18, 2026.
Elizabeth Whiteman,
Executive Secretary.

[FR Doc. 2026-03510 Filed 2-20-26; 8:45 am]

BILLING CODE 3510-DS-P